DEPARTMENT OF HEALTH AND HUMAN SERVICES

National Institutes of Health

National Institute on Aging Amended; Notice of Meeting

Notice is hereby given of a change in the meeting of the National Institute on Aging Special Emphasis Panel, October 01, 2015, 03:00 p.m. to October 01, 2015, 03:30 p.m., Doubletree Hotel Bethesda, (Formerly Holiday Inn Select), 8120 Wisconsin Avenue, Bethesda, MD, 20814 which was published in the Federal Register on September 09, 2015, 80 FR 54302.

The meeting notice is amended to change the meeting title to National Institute on Aging Special Emphasis Panel—MIND Diet. The meeting is closed to the public.

Dated: September 10, 2015.
Melanie J. Gray-Pantoja,
Program Analyst, Office of Federal Advisory Committee Policy.

[FR Doc. 2015-23112 Filed 9-14-15; 8:45 am]

BILLING CODE 4140-01-P